NUCLEAR REGULATORY COMMISSION

Notice of Opportunity To Comment on Model Safety Evaluation and Model License Amendment Request on Technical Specification Improvement Regarding Adding an Action Statement for Two Inoperable Control Room Air Conditioning Subsystems

AGENCY: Nuclear Regulatory Commission.

ACTION: Request for comment.

SUMMARY: Notice is hereby given that the staff of the U.S. Nuclear Regulatory Commission (NRC) has prepared a model license amendment request (LAR), model safety evaluation (SE), and model proposed no significant hazards consideration (NSHC) determination related to changes to Standard Technical Specification (STS) 3.7.5 (STS 3.7.4 for BWR/6), “Control Room Air Conditioning (AC) System” for NUREG-1433 and NUREG-1434. The proposed changes would also revise the Bases for STS 3.7.5 (STS 3.7.4 for BWR/6). The General Electric Boiling Water Reactor Owners Group (BWROG) participants in the Technical Specifications Task Force (TSTF) proposed these changes to the STS in TSTF-477, Revision 3, “Add an Action for Two Inoperable Control Room AC Subsystems.”

The purpose of these models is to permit the NRC to efficiently process amendments to incorporate changes into plant-specific Technical Specifications (TS) for General Electric Boiling Water Reactors (BWR). Licensees of nuclear power reactors to which the models apply can request amendments conforming to the models. In such a request, a licensee should confirm the applicability of the model LAR, model SE and NSHC determination to its plant. The NRC staff is requesting comments on the model LAR, model SE and NSHC determination before announcing their availability for referencing in license amendment applications.

DATES: The comment period expires 30 days from the date of this publication. Comments received after this date will be considered if it is practical to do so, but the Commission is able to ensure consideration only for comments received on or before this date.

ADDRESSES: Comments may be submitted either electronically or via U.S. mail.

Submit written comments to: Chief, Rules and Directives Branch, Division of Administrative Services, Office of Administration, Mail Stop: T-6 D59, U.S. Nuclear Regulatory Commission, Washington, DC 20555-0001. Hand deliver comments to: 11545 Rockville Pike, Rockville, Maryland, between 7:45 a.m. and 4:15 p.m. on Federal workdays. Submit comments by electronic mail to: CLIIP@nrc.gov.

Copies of comments received may be examined at the NRC's Public Document Room, One White Flint North, Public File Area O1-F21, 11555 Rockville Pike (first floor), Rockville, Maryland.

FOR FURTHER INFORMATION CONTACT: Peter C. Hearn, Mail Stop: O-12H2, Division of Inspection and Regional Support, Office of Nuclear Reactor Regulation, U.S. Nuclear Regulatory Commission, Washington, DC 20555-0001, telephone (301) 415-1189.

SUPPLEMENTARY INFORMATION:

Background

Regulatory Issue Summary 2000-06, “Consolidated Line Item Improvement Process [CLIIP] for Adopting Standard Technical Specifications Changes for Power Reactors,” was issued on March 20, 2000. The CLIIP is intended to improve the efficiency and transparency of NRC licensing processes. This is accomplished by processing proposed changes to the STS in a manner that supports subsequent license amendment applications. The CLIIP includes an opportunity for the public to comment on proposed changes to the STS following a preliminary assessment by the NRC staff and finding that the change will likely be offered for adoption by licensees. This notice is soliciting comments on a proposed change to the STS that adds an action statement for two inoperable control room subsystems to the General Electric BWR STS Revision 3.0 of NUREG-1433 and NUREG-1434. The CLIIP directs the NRC staff to evaluate any comments received for a proposed change to the STS and to either reconsider the change or proceed with announcing the availability of the change for proposed adoption by licensees. Those licensees opting to apply for the subject change to TSs are responsible for reviewing the staff's evaluation, referencing the applicable technical justifications, and providing any necessary plant-specific information. Following the public comment period, the model LAR and model SE will be finalized, and posted on the NRC Web page. Each amendment application made in response to the notice of availability will be processed and noticed in accordance with applicable NRC rules and procedures.

This notice involves adding an action statement for two inoperable control room air conditioning subsystems. By letter dated September 8, 2006, the BWROG proposed these changes for incorporation into the STS as TSTF-477, Revision 3. These changes are accessible electronically from the Agency-wide Documents Access and Management System's (ADAMS) Public Electronic Reading Room on the Internet (ADAMS Accession No. ML062510321) at the NRC Web site http://frwebgate.access.gpo.gov/cgi-bin/leaving.cgi?from=leavingFR.html&log=linklog&to=http://www.nrc.gov/reading-rm/adams.html.

Persons who do not have access to ADAMS or who encounter problems in accessing the documents located in ADAMS should contact the NRC Public Document Room Reference staff by telephone at 1-800-397-4209, 301-415-4737, or by e-mail to pdr@nrc.gov.

Applicability

These proposed changes will revise Section 3.7.5 (Section 3.7.4 for BWR/6) for the General Electric plants.

To efficiently process incoming license amendment applications, the NRC staff requests that each licensee applying for the changes addressed by TSTF-477, Revision 3, using the CLIIP submit an LAR that adheres to the following model. Any variations from the model LAR should be explained in the licensee's submittal. Variations from the approach recommended in this notice may require additional review by the NRC staff, and may increase the time and resources needed for the review. Significant variations from the approach, or inclusion of additional changes to the license, will result in staff rejection of the submittal. Instead, licensees desiring significant variations and/or additional changes should submit a LAR that does not claim to adopt TSTF-477.

Public Notices

This notice requests comments from interested members of the public within 30 days of the date of this publication. Following the NRC staff's evaluation of comments received as a result of this notice, the NRC staff may reconsider the proposed change or may proceed with announcing the availability of the change in a subsequent notice (perhaps with some changes to the model LAR, model SE or model NSHC determination as a result of public comments). If the NRC staff announces the availability of the change, licensees wishing to adopt the change will submit an application in accordance with applicable rules and other regulatory requirements. The NRC staff will, in turn, issue for each application a notice of consideration of issuance of amendment to facility operating license(s), a proposed NSHC determination, and an opportunity for a hearing. A notice of issuance of an amendment to operating license(s) will also be issued to announce the revised requirements for each plant that applies for and receives the requested change.

For the Nuclear Regulatory Commission.
Dated at Rockville, Maryland, this 7th day of December, 2006.
Timothy J. Kobetz,
Chief, Technical Specifications Branch, Division of Inspection and Regional Support, Office of Nuclear Reactor Regulation.

ENCLOSURE 1

1.0 Description

This letter is a request to amend Operating License(s) [LICENSE NUMBER(S)] for [PLANT/UNIT NAME(S)].

The proposed changes would revise Technical Specification 3.7.5 (3.7.4 for BWR/6) “Control Room Air Conditioning (AC) System” to add an action statement for two inoperable control room subsystems. Technical Specification Task Force (TSTF) change traveler TSTF-477, Revision 3, “Add Action for Two Inoperable Control Room AC Subsystems” was announced for availability in the Federal Register on [DATE] as part of the consolidated line item improvement process (CLIIP).

2.0 Proposed Changes

Consistent with NRC-approved TSTF-477, Revision 3, the proposed TS changes include: Add an action statement for two inoperable control room subsystems.

3.0 Background

The background for this application is as stated in the model SE in NRC's Notice of Availability published on [DATE] [ ] FR [ ]), the NRC Notice for Comment published on [DATE] ([ ] FR [ ]), and TSTF-477, Revision 3.

4.0 Technical Analysis

[LICENSEE] has reviewed References 1 and 2, and the model SE published on [DATE] ([ ] FR [ ]) as part of the CLIIP Notice for Comment. [LICENSEE] has applied the methodology in Reference 1 to develop the proposed TS changes. [LICENSEE] has also concluded that the justifications presented in TSTF-477, Revision 3 and the model SE prepared by the NRC staff are applicable to [PLANT, UNIT NOS.], and justify this amendment for the incorporation of the changes to the [PLANT] TS.

5.0 Regulatory Analysis

A description of this change and its relationship to applicable regulatory requirements and guidance was provided in the NRC Notice of Availability published on [Date] ([FR [ ]), the NRC Notice for Comment published on [Date] ([ ] FR [ ]) and TSTF-477, Revision 3.

6.0 No Significant Hazards Consideration

[LICENSEE] has reviewed the proposed no significant hazards consideration determination published in the Federal Register on [DATE] ([ ] FR [ ]) as part of the CLIIP. [LICENSEE] has concluded that the proposed determination presented in the notice is applicable to [PLANT] and the determination is hereby incorporated by reference to satisfy the requirements of 10 CFR 50.91(a).

7.0 Environmental Evaluation

[LICENSEE] has reviewed the environmental consideration included in the model SE published in the Federal Register on [DATE] ([ ] FR [ ]) as part of the CLIIP. [LICENSEE] has concluded that the staff's findings presented therein are applicable to [PLANT] and the determination is hereby incorporated by reference for this application.

8.0 References

1. Federal Register Notices: Notice for Comment published on [DATE] ([ ] FR [ ]) Notice of Availability published on [DATE] ([ ] FR [ ])

Enclosure 2

Proposed Technical Specification Changes and Technical Specification Bases Changes (Mark-Up)

Enclosure 3

Final Technical Specification and Bases Pages

[Clean copies of Licensee specific Technical Specification (TS) pages, corresponding to the TS pages changed by TSTF-477, Rev 3, are to be included in Enclosure 3]

Model Safety Evaluation—U.S. Nuclear Regulatory Commission

Office of Nuclear Reactor Regulation—Technical Specification Task Force TSTF-477, Revision 3, “Add an Action for Two Inoperable Control Room AC Subsystems.”

1.0 Introduction

By letter dated [_, 20_], [LICENSEE] (the licensee) proposed changes to the technical specifications (TS) for [PLANT NAME]. The requested changes are the adoption of TSTF-477, Revision 3, “Add Action for Two Inoperable Control Room AC Subsystems” which was proposed by the Technical Specification Task Force (TSTF) by letter on August__ , 2006. The proposed changes revising Technical Specification 3.7.5 (3.7.4 for BWR/6) “Control Room Air Conditioning (AC) System” involve adding the following Limiting Conditions for Operation (LCO):

B. Two [control room AC] subsystems inoperable | B.1 Verify control room area Temperature < [90] °F AND | Once per 4 hours.
| B.2 Restore one [control room AC] to OPERABLE status | 72 hours.

The Technical Specification Task Force (TSTF) change traveler TSTF-477, Revision 3, was announced for availability in the Federal Register on [DATE] as part of the consolidated line item improvement process (CLIIP).

2.0 Regulatory Evaluation

Section 182a of the Atomic Energy Act (the “Act”) requires applicants for nuclear power plant operating licenses to include TS as part of the license. The TS ensure the operational capability of structures, systems and components that are required to protect the health and safety of the public. The Commission's regulatory requirements related to the content of the TS are contained in 10 CFR Section 50.36. That regulation requires that the TS include items in the following specific categories: (1) safety limits, limiting safety systems settings, and limiting control settings (50.36(c)(1)); (2) Limiting Conditions for Operation (50.36(c)(2)); (3) Surveillance Requirements (50.36(c)(3)); (4) design features (50.34(c)(4)); and (5) administrative controls (50.36(c)(5)).

In general, there are two classes of changes to TS: (1) Changes needed to reflect modifications to the design basis (TS are derived from the design basis), and (2) voluntary changes to take advantage of the evolution in policy and guidance as to the required content and preferred format of TS over time. This amendment deals with the second class of changes.

In determining the acceptability of revising STS 3.7.5 (STS 3.7.4 for BWR/6), the staff used the accumulation of generically approved guidance in NUREG-1433, “Standard Technical Specifications, Revision 3 General Electric Plants, BWR/4” dated June, 2004 and; NUREG-1434, Revision 3, “Standard Technical Specifications, General Electric Plants, BWR/6” dated June, 2004.

Licensees may revise the TS to adopt current improved STS (iSTS) format and content provided that plant-specific review supports a finding of continued adequate safety because: (1) The change is editorial, administrative or provides clarification (i.e., no requirements are materially altered), (2) the change is more restrictive than the licensee's current requirement, or (3) the change is less restrictive than the licensee's current requirement, but nonetheless still affords adequate assurance of safety when judged against current regulatory standards. The detailed application of this general framework, and additional specialized guidance, are discussed in Section 3.0 in the context of specific proposed changes.

3.0 Technical Evaluation

The BWR STS for the Control Room Air Conditioning AC System do not contain an Action Statement for two inoperable subsystems. During the TS Conversion of the BWR/6 Plants, the BWR/6 Plants adopted Action Statements for the Ventilation and AC systems that contained Action Statements for 2 inoperable subsystems similar to the proposed Action Statements in TSTF-477. The STS for numerous safety related systems also contain Action Statements for 2 inoperable subsystems. The TSTF proposes to add an Action Statement for 2 inoperable CR AC subsystems to the BWR STS in order to be consistent with the BWR/6 current iSTS. Furthermore, the consistency of the BWR STS will be enhanced since most safety related systems presently have Action Statements in the STS to address two inoperable subsystems.

3.1 NUREG-1433, Revision 3, “Standard Technical Specifications, General Electric Plants, BWR/4”

The proposed BWR/4 Action statement allows 72 hours to restore 1 subsystem to the operable status for 2 inoperable subsystems. During the 72 hour completion time the CR Temperature is verified < 90 degrees every 4 hours. If 1 CRAC can not be restored to operable status or the CR Temperature can not be maintained < 90 degrees then the unit must be placed in at least Mode 3 within 12 hours and Mode 4 within 36 hours. Maintaining the CR Temperature < 90 degrees assures that the Safety Related Equipment in the CR will remain within the original licensed design operating temperature, because the maximum allowable CR Temperature is unchanged by TSTF-477. The NRC staff finds that the proposed changes in TSTF-477 are acceptable for the BWR/4 because the TSTF-477 changes provide TS requirements that the CR Temperature will be maintained within the original licensed design operating temperature of the CR equipment or the plant will be placed in the Cold Shutdown Mode (Mode 4, Safe Shut Condition).

3.2 NUREG-1434, Revision 3, “Standard Technical Specifications, General Electric Plants, BWR/6”

The proposed BWR/6 Action statement allows 7 days to restore 1 subsystem to the operable status for 2 inoperable subsystems. This is consistent with the current BWR/6 Plants iSTS. During the 7 days completion time the CR Temperature is verified < 90 degrees every 4 hours. If 1 CR AC cannot be restored to operable status or the CR Temperature cannot be maintained < 90 degrees then the unit must be placed in at least Mode 3 within 12 hours and Mode 4 within 36 hours. Maintaining the CR Temperature < 90 degrees assures that the Safety Related Equipment in the CR will remain within the original licensed design operating temperature, because the original allowable CR Temperature remains unchanged by TSTF-477. The NRC staff confirms that the proposed changes in TSTF-477 are acceptable for the BWR/6 because the TSTF-477 changes provide TS requirements that the CR Temperature will be maintained within the original licensed design operating temperature of the CR equipment or the plant will be placed in the Cold Shutdown Mode (Mode 4, Safe Shut Condition).

4.0 State Consultation

In accordance with the Commission's regulations, the [ ] State official was notified of the proposed issuance of the amendment. The State official had [(1) no comments or (2) the following comments—with subsequent disposition by the staff].

5.0 Environmental Consideration

The amendment[s] change[s] a requirement with respect to the installation or use of a facility component located within the restricted area as defined in 10 CFR part 20 or surveillance requirements. The NRC staff has determined that the amendment involves no significant increase in the amounts, and no significant change in the types, of any effluents that may be released offsite, and that there is no significant increase in individual or cumulative occupational radiation exposure. The Commission has previously issued a proposed finding that the amendment involves no significant hazards consideration and there has been no public comment on such finding published [DATE] ([ ] FR [ ]). Accordingly, the amendment meets the eligibility criteria for categorical exclusion set forth in 10 CFR 51.22(c)(9). Pursuant to 10 CFR 51.22(b), no environmental impact statement or environmental assessment need be prepared in connection with the issuance of the amendment.

6.0 Conclusion

The Commission has concluded, based on the considerations discussed above, that (1) There is reasonable assurance that the health and safety of the public will not be endangered by operation in the proposed manner, (2) such activities will be conducted in compliance with the Commission's regulations, and (3) the issuance of the amendment will not be inimical to the common defense and security or to the health and safety of the public. Proposed No Significant Hazards Consideration Determination Description of Amendment Request: [Plant name] requests adoption of an approved change to the standard technical specifications (STS) for Boiling Water Reactor (BWR) Plants (NUREG-1433 and NUREG-1434) and plant specific technical specifications (TS), to add an action statement for two inoperable control room subsystems. The changes are consistent with NRC approved Industry/Technical Specification Task Force (TSTF) Standard Technical Specifcation Change Traveler, TSTF-477, Revision 3.

Basis for proposed no-significant-hazards-consideration determination: As required by 10 CFR 50.91(a), an analysis of the issue of no-significant-hazards-consideration is presented below:

Criterion 1—The Proposed Change Does Not Involve a Significant Increase in the Probability or Consequences of an Accident Previously Evaluated

The proposed change is described in Technical Specification Task Force (TSTF) Standard TS Change Traveler TSTF-477 adds an action statement for two inoperable control room subsystems.

The proposed change does not involve a physical alteration of the plant (no new or different type of equipment will be installed). The proposed changes add an action statement for two inoperable control room subsystems. The equipment qualification temperature of the control room equipment is not affected. Future changes to the Bases or licensee-controlled document will be evaluated pursuant to the requirements of 10 CFR 50.59, “ Changes, test and experiments”, to ensure that such changes do not result in more than a minimal increase in the probability or consequences of an accident previously evaluated.

The proposed changes do not adversely affect accident initiators or precursors nor alter the design assumptions, conditions, and configuration of the facility or the manner in which the plant is operated and maintained. The proposed changes do not adversely affect the ability of structures, systems and components (SSCs) to perform their intended safety function to mitigate the consequences of an initiating event within the assumed acceptance limits. The proposed changes do not affect the source term, containment isolation, or radiological consequences of any accident previously evaluated. Further, the proposed changes do not increase the types and the amounts of radioactive effluent that may be released, nor significantly increase individual or cumulative occupation/public radiation exposures.

Therefore, the changes do not involve a significant increase in the probability or consequences of any accident previously evaluated.

Criterion 2—The Proposed Change Does Not Create the Possibility of a New or Different Kind of Accident from any Previously Evaluated

The proposed changes add an action statement for two inoperable control room subsystems. The changes do not involve a physical altering of the plant (i.e., no new or different type of equipment will be installed) or a change in methods governing normal pant operation. The requirements in the TS continue to require maintaining the control room temperature within the design limits.

Therefore, the changes do not create the possibility of a new or different kind of accident from any previously evaluated.

Criterion 3—The Proposed Change Does Not Involve a Significant Reduction in the Margin of Safety

The proposed changes add an action statement for two inoperable control room subsystems. Instituting the proposed changes will continue to maintain the control room temperature within design limits. Changes to the Bases or license controlled document are performed in accordance with 10 CFR 50.59. This approach provides an effective level of regulatory control and ensures that the control room temperature will be maintained within design limits.

The proposed changes maintain sufficient controls to preserve the current margins of safety.

Based upon the reasoning above, the NRC staff concludes that the amendment request involves no significant hazards consideration.

For the Nuclear Regulatory Commission.
Project Manager, Plant Licensing Branch [ ], Division of Operating Reactor Licensing, Office of Nuclear Reactor Regulation.

[FR Doc. E6-21462 Filed 12-15-06; 8:45 am]

BILLING CODE 7590-01-P